DEPARTMENT OF EDUCATION

Applications for New Awards; Charter Schools Program (CSP) Grants for Replication and Expansion of High-Quality Charter Schools; Correction

AGENCY: Office of Innovation and Improvement, Department of Education.

ACTION: Notice; correction.

SUMMARY: On May 10, 2016, we published in the Federal Register (81 FR 28837) a notice inviting applications for new awards for fiscal year (FY) 2016 for the CSP Grants for Replication and Expansion of High-Quality Charter Schools program. This correction notice amends (1) the date of the pre-application webinar from June 16, 2016, to May 24, 2016; and (2) the deadline for transmittal of applications from June 20, 2016, to June 24, 2016. All other requirements and conditions stated in the notice inviting applications, including the deadline for intergovernmental review, remain the same.

DATES: Date of Pre-Application Webinar: May 24, 2016, 2:00 p.m. to 3:30 p.m., Washington, DC, time. Deadline for Transmittal of Applications: June 24, 2016.

FOR FURTHER INFORMATION CONTACT: Brian Martin, U.S. Department of Education, 400 Maryland Avenue SW., Room 4W224, Washington, DC 20202-5970. Telephone: (202) 205-9085, or by email: brian.martin@ed.gov.

If you use a telecommunications device for the deaf (TDD) or a text telephone (TTY), call the Federal Relay Service, toll free, at 1-800-877-8339.

SUPPLEMENTARY INFORMATION:

Corrections

On May 10, 2016, we published in the Federal Register (81 FR 28837) a notice inviting applications for new awards for FY 2016 for the CSP Grants for Replication and Expansion of High-Quality Charter Schools program. On page 28837 of that notice, in the third column, under DATES, and on page 28842, in the first column, under 3. Submission Dates and Times, we change the Date of Pre-Application Webinar from “June 16, 2016,” to “May 24, 2016.” The time and duration of the webinar remain the same.

Also, on page 28837, in the third column, under DATES, we correct the Deadline for Transmittal of Applications from “June 20, 2016,” to “June 24, 2016.” The Deadline for Transmittal of Applications listed in the first column on page 28842 is correct and remains unchanged.

All other requirements and conditions stated in the notice inviting applications, including the deadline for intergovernmental review, remain the same.

Program Authority: Consolidated Appropriations Act, 2016, Division H, Public Law 114-113; and title V, part B of the Elementary and Secondary Education Act of 1965, as amended by the No Child Left Behind Act of 2001.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 12, 2016.
Nadya Chinoy Dabby,
Assistant Deputy Secretary for Innovation and Improvement.

[FR Doc. 2016-11717 Filed 5-16-16; 8:45 am]

BILLING CODE 4000-01-P